DEPARTMENT OF ENERGY

Federal Energy Regulatory Commission

[Docket Nos. RP00-465-001 and RP00-616-001]

CMS Trunkline LNG Company, LLC; Notice of Compliance Filing

July 3, 2002.

Take notice that on June 26, 2002, CMS Trunkline LNG Company, LLC (TLNG) tendered for filing as part of its FERC Gas Tariff, First Revised Volume No. 1-A, revised tariff sheets as listed on Appendix A attached to the filing.

TLNG states that this filing is being made to comply with the Commission's Order on Compliance With Order Nos. 637, 587-G, and 587-L issued on June 5, 2002.

TLNG states that copies of this filing are being served on all affected shippers, interested state regulatory agencies and parties to this proceeding.

Any person desiring to protest said filing should file a protest with the Federal Energy Regulatory Commission, 888 First Street, NE., Washington, DC 20426, in accordance with Section 385.211 of the Commission's rules and regulations. All such protests must be filed on or before July 10, 2002. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-17392 Filed 7-10-02; 8:45 am]

BILLING CODE 6717-01-P